DEPARTMENT OF ENERGY

Federal Energy Regulatory Commission

[Docket No. IC13-4-000; (FERC-538)]

Commission Information Collection Activities; Comment Request

AGENCY: Federal Energy Regulatory Commission.

ACTION: Comment request.

SUMMARY: In compliance with the requirements of the Paperwork Reduction Act of 1995, the Federal Energy Regulatory Commission (Commission or FERC) is submitting the information collection FERC-538, Gas Pipeline Certificates: Section 7(a) Mandatory Initial Service, to the Office of Management and Budget (OMB) for review of the information collection requirements. Any interested person may file comments directly with OMB and should address a copy of those comments to the Commission as explained below. The Commission issued a Notice in the Federal Register (77 FR 75627, 12/21/2012) requesting public comments. FERC received no comments on the FERC-538 and is making this notation in its submittal to OMB.

DATES: Comments on the collection of information are due by April 5, 2013.

ADDRESSES: Comments filed with OMB, identified by the OMB Control No. 1902-0061, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. IC13-4-000, by either of the following methods:

• eFiling at Commission's Web Site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-538: Gas Pipelines Certificates: Section 7(a) Mandatory Initial Service.

OMB Control No.: 1902-0061.

Type of Request: Three-year extension of the FERC-538 information collection requirements with no changes to the reporting requirements.

Abstract: Under sections 7(a), 10(a) and 16 of Natural Gas Act (NGA),¹ upon application by a person or municipality authorized to engage in the local distribution of natural gas, the Commission may order a natural gas company to extend or improve its transportation facilities, and sell natural gas to the municipality or person and, for such purpose, to extend its transportation facilities to communities immediately adjacent to such facilities or to territories served by the natural gas pipeline company. The Commission uses the application data in order to be fully informed concerning the applicant, and the service the applicant is requesting.

¹ 15 U.S.C. 717f-w.

Type of Respondents: Persons or municipalities authorized to engage in the local distribution of natural gas.

Estimate of Annual Burden: ² The Commission estimates the total Public Reporting Burden for this information collection as:

² Burden is defined as the total time, effort, or financial resources expended by persons to generate, maintain, retain, or disclose or provide information to or for a Federal agency. For further explanation of what is included in the information collection burden, reference 5 Code of Federal Regulations 1320.3.

FERC-538—Gas Pipelines Certificates: Section 7(a) Mandatory Initial Service
| Number of respondents | Number of responses per respondent | Total number of responses | Average burden hours per response | Estimated total annual burden
| (A) | (B) | (A) × (B) = (C) | (D) | (C) × (D)
Gas Pipeline Certificates | 1 | 1 | 1 | 240 | 240

The total estimated annual cost burden to respondents is $16,562 [240 hours * $69.01/hour ³ = $16,562].

³ 2080 hours = 52 weeks * 40 hours per week (i.e. 1 year of full-time employment).

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: February 27, 2013.
Kimberly D. Bose,
Secretary.

[FR Doc. 2013-05121 Filed 3-5-13; 8:45 am]

BILLING CODE 6717-01-P